DEPARTMENT OF HEALTH AND HUMAN SERVICES

Centers for Medicare & Medicaid Services

[Document Identifiers: CMS-10485, CMS-417, CMS-10277, and CMS-10260]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: the necessity and utility of the proposed information collection for the proper performance of the agency's functions; the accuracy of the estimated burden; ways to enhance the quality, utility, and clarity of the information to be collected; and the use of automated collection techniques or other forms of information technology to minimize the information collection burden.

DATES: Comments on the collection(s) of information must be received by the OMB desk officer by February 28, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New Collection (Request for a new OMB control number); Title of Information Collection: Evaluation of the Multi-Payer Advanced Primary Care Practice (MAPCP) Demonstration: Provider Survey; Use: On September 16, 2009, the Department of Health and Human Services announced the establishment of the Multi-payer Advanced Primary Care Practice (MAPCP) Demonstration, under which Medicare joined Medicaid and private insurers as a payer participant in state-sponsored patient-centered medical home (PCMH) initiatives. We selected eight states to participate in this demonstration: Maine, Vermont, Rhode Island, New York, Pennsylvania, North Carolina, Michigan, and Minnesota.

We are proposing to conduct this provider survey to understand how participating practices' structures and functions vary, particularly with respect to their adoption of different components of the PCMH model of care. Researchers evaluating the MAPCP Demonstration plan to combine these survey data with claims data to conduct statistical analyses that identify which particular medical home care processes are associated with the largest gains in health care quality and reductions in health care cost trends. Subsequent to the publication of the 60-day Federal Register notice (78 FR 41931), revisions have been made to the survey. There has been a slight increase in the annual burden hours. Form Number: CMS-10485 (OCN: 0938-NEW); Frequency: Annually; Affected Public: Individuals and households; Number of Respondents: 5,799; Total Annual Responses: 5,799; Total Annual Hours: 1,740. (For policy questions regarding this collection contact Suzanne Wensky at 410-786-0226.)

2. Type of Information Collection Request: Revision of a currently approved collection; Title of Information Collection: Hospice Request for Certification and Supporting Regulations; Use: The Hospice Request for Certification Form is the identification and screening form used to initiate the certification process and to determine if the provider has sufficient personnel to participate in the Medicare program. Subsequent to the publication of the 60-day Federal Register notice (78 FR 65656), minor changes were made to the form. Form Number: CMS-417 (OCN: 0938-0313); Frequency: Annually; Affected Public: Private Sector (Business or other for-profits); Number of Respondents: 3,807; Total Annual Responses: 3,807; Total Annual Hours: 952. (For policy questions regarding this collection contact Patricia Sevast at 410-786-8135).

3. Type of Information Collection Request: Extension of a currently approved collection; Title of Information Collection: Hospice Conditions of Participation and Supporting Regulations; Use: The Conditions of Participation and accompanying requirements are used by Federal or State surveyors as a basis for determining whether a hospice qualifies for approval or re-approval under Medicare. The healthcare industry and CMS believe that the availability to the hospice of the type of records and general content of records, which the final rule (72 FR 32088) specifies, is standard medical practice, and is necessary in order to ensure the well-being and safety of patients and professional treatment accountability. Form Number: CMS-10277 (OCN: 0938-1067); Frequency: Reporting and Recordkeeping—Yearly; Affected Public: Private sector (Business or other for-profit and Not-for-profit institutions); Number of Respondents: 3,897; Total Annual Responses: 1,535,919; Total Annual Hours: 1,625,440. (For policy questions regarding this collection contact Danielle Shearer at 410-786-6617.)

4. Type of Information Collection Request: Reinstatement with change of a previously approved collection; Title of Information Collection: Medicare Advantage and Prescription Drug Program: Final Marketing Provisions; Use: We require that Medicare Advantage (MA) organizations and Part D sponsors use standardized documents to satisfy disclosure requirements mandated by section 1851(d)(3)(A) of the Social Security Act (Act) and 42 CFR 422.111(b) for MA organizations, and section 1860D-1(c) of the Act and 42 CFR 423.128(a)(3) for Part D sponsors. The regulatory provisions require that MA organizations and Part D sponsors disclose plan information, including: Service area, benefits, access, grievance and appeals procedures, and quality improvement and quality assurance requirements by September 30th of each year. The MA organizations and Part D sponsors use the information to comply with the disclosure requirements. We will use the approved standardized documents to ensure that correct information is disclosed to current and potential enrollees. The package has been revised subsequent to the publication of the 60-day notice (78 FR 63208). Form Number: CMS-10260 (OCN: 0938-1051); Frequency: Yearly; Affected Public: Private sector (Business or other for-profits); Number of Respondents: 770; Total Annual Responses: 770; Total Annual Hours: 9,240. (For policy questions regarding this collection contact Timothy Roe at 410-786-2006.)

Dated: January 24, 2014.
Martique Jones,
Deputy Director, Regulations Development Group, Office of Strategic Operations and Regulatory Affairs.

[FR Doc. 2014-01775 Filed 1-28-14; 8:45 am]

BILLING CODE 4120-01-P